DEPARTMENT OF THE INTERIOR

Bureau of Ocean Energy Management, Regulation and Enforcement

[Docket No. MMS-2010-OMM-0011]

BOEMRE Information Collection Activity: 1010-0142, Decommissioning Activities, Extension of a Collection, Submitted for Office of Management and Budget (OMB) Review; Comment Request

AGENCY: Bureau of Ocean Energy Management, Regulation and Enforcement (BOEMRE), Interior.

ACTION: Notice of extension of an information collection (1010-0142).

SUMMARY: To comply with the Paperwork Reduction Act of 1995 (PRA), we are notifying the public that we have submitted to OMB an information collection request (ICR) to renew approval of the paperwork requirements in the regulations under 30 CFR 250, subpart Q, Decommissioning Activities, and related documents. This notice also provides the public a second opportunity to comment on the paperwork burden of these regulatory requirements.

DATES: Submit written comments by October 7, 2010.

ADDRESSES: Submit comments by either fax (202) 395-5806 or e-mail (OIRA_DOCKET@omb.eop.gov) directly to the Office of Information and Regulatory Affairs, OMB, Attention: Desk Officer for the Department of the Interior (1010-0142). Please also submit a copy of your comments to BOEMRE by any of the means below.

• Electronically: go to http://www.regulations.gov. In the entry titled “Enter Keyword or ID,” enter docket ID MMS-2010-OMM-0011 then click search. Follow the instructions to submit public comments and view supporting and related materials available for this collection. The BOEMRE will post all comments.

• E-mail: cheryl.blundon@mms.gov. Mail or hand-carry comments to the Department of the Interior; Bureau of Ocean Energy Management, Regulation and Enforcement; Attention: Cheryl Blundon; 381 Elden Street, MS-4024; Herndon, Virginia 20170-4817. Please reference ICR 1010-0142 in your comment and include your name and return address.

FOR FURTHER INFORMATION CONTACT: Cheryl Blundon, Regulations and Standards Branch (703) 787-1607. You may also contact Cheryl Blundon to obtain a copy, at no cost, of the regulation that requires the subject collection of information.

SUPPLEMENTARY INFORMATION: Title: 30 CFR 250, subpart Q, Decommissioning Activities.

OMB Control Number: 1010-0142.

Abstract: The Outer Continental Shelf (OCS) Lands Act, as amended (43 U.S.C. 1331 et seq. and 43 U.S.C. 1801 et seq.), authorizes the Secretary of the Interior (Secretary) to prescribe rules and regulations to manage the mineral resources of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's (DOI) implementing policy, the Bureau of Ocean Energy Management, Regulation and Enforcement (BOEMRE) is required to charge fees for services that provide special benefits or privileges to an identifiable non-Federal recipient above and beyond those which accrue to the public at large. Applications to remove/decommission a platform are subject to cost recovery, and BOEMRE regulations specify cost recovery fees for these requests.

This authority and responsibility are among those delegated to BOEMRE. The regulations at 30 CFR 250, subpart Q, concern decommissioning of platforms, wells, and pipelines, as well as site clearance and platform removal and are the subject of this collection. This request also covers the related Notices to Lessees and Operators (NTLs) that BOEMRE issues to clarify, supplement, or provide additional guidance on some aspects of our regulations.

The BOEMRE uses the information collected under subpart Q primarily for the following reasons:

• To determine the necessity for allowing a well to be temporarily abandoned, the lessee/operator must demonstrate that there is a reason for not permanently plugging the well, and the temporary abandonment will not interfere with fishing, navigation, or other uses of the OCS. We use the information and documentation to verify that the lessee/operator is diligently pursuing the final disposition of the well and has performed the temporary plugging of the wellbore.

• The information submitted in initial decommissioning plans in the Alaska and Pacific OCS Regions will permit BOEMRE to become involved on the ground floor planning of platform removals anticipated to occur in these OCS regions.

• Site clearance and platform or pipeline removal information ensures that all objects (wellheads, platforms, etc.) installed on the OCS are properly removed using procedures that will protect marine life and the environment during removal operations, and the site cleared so as not to conflict with or harm other uses of the OCS.

• Information regarding decommissioning a pipeline in place is needed to ensure that it will not constitute a hazard to navigation and commercial fishing operations, unduly interfere with other uses of the OCS, or have adverse environmental effects.

• The information is necessary to verify that decommissioning activities comply with approved applications and procedures and are satisfactorily completed.

Responses are mandatory. No questions of a sensitive nature are asked. We protect proprietary information according to the Freedom of Information Act (5 U.S.C. 552) and its implementing regulations (43 CFR 2), and 30 CFR 250.197, “Data and information to be made available to the public or for limited inspection.”

Frequency: On occasion, annual; and as specified in sections.

Description of Respondents: Potential respondents comprise Federal OCS oil, gas, and sulphur operators, lessees, and holders of pipeline rights-of-way.

Estimated Reporting and Recordkeeping Hour Burden: The estimated annual hour burden for this information collection is a total of 15,716 hours. The following chart details the individual components and burdens. In calculating the burdens, we assumed that respondents perform certain requirements in the normal course of their activities. We consider these to be usual and customary and took that into account in estimating the burden.

Citation 30 CFR 250 subpart Q | Reporting/recordkeeping requirement | Non-hour cost burdens: Hour burden | Non-hour cost burdens: Average number of annual responses | Non-hour cost burdens: Annual burden hours (rounded)
General
1700 thru 1754 | General departure and alternative compliance requests not specifically covered elsewhere in subpart Q regulations | 3 | 50 requests | 150
1703; 1704 | Request approval for decommissioning | Burden included in specific requirement. |  | 0
1704(g); 1712; 1716; 1717; 1721(a), (d), (f), (g); 1722(a), (b), (d); 1723(b); 1743(a) | Submit form MMS-124 to plug wells; provide subsequent report; request alternate depth departure; request procedure to protect obstructions above seafloor; report within 30 days, results of trawling; certify area cleared of obstructions; remove casing stub or mud line suspension equipment and subsea protective covering; or other departures | Burden covered under 1010-0141. |  | 0
Subtotal | 50 responses | 150
Permanently Plugging Wells
1711 | Required data if permanently plugging a well | Requirement not considered Information Collection under 5 CFR 1320.3(h)(9). |  | 0
1713 | Notify BOEMRE 48 hours before beginning operations to permanently plug a well | .5 | 995 notices | 498
Subtotal | 995 responses | 498
Temporary Abandoned Wells
1721(e); 1722(e), (h)(1); 1741(c) | Identify and report subsea wellheads, casing stubs, or other obstructions; mark wells protected by a dome; mark location to be cleared as navigation hazard | U.S. Coast Guard requirements. |  | 0
1722(c), (g)(2) | Notify BOEMRE within 5 days if trawl does not pass over protective device or causes damages to it; or if inspection reveals casing stub or mud line suspension is no longer protected | 1 | 10 notices | 10
1722(f), (g)(3) | Submit annual report on plans for re-entry to complete or permanently abandon the well and inspection report | 2.5 | 92 reports | 230
1722(h) | Request waiver of trawling test | 2 | 5 requests | 10
Subtotal | 107 responses | 250
Removing Platforms and Other Facilities
1726; 1704(a) | Submit initial decommissioning application in the Pacific and Alaska OCS Regions | 20 | 2 applications | 40
1725; 1727; 1728; 1730; 1704(b) | Submit final application and appropriate data to remove platform or other subsea facility structures (including alternate depth departure) or approval to maintain, to conduct other operations, or to convert to artificial reef | 22 | 252 applications | 5,544
|  | $4,342 fee × 252 = $1,094,184.
1725(e) | Notify BOEMRE 48 hours before beginning removal of platform and other facilities | .5 | 214 notices | 107
1729; 1704(c) | Submit post platform or other facility removal report; supporting documentation; signed statements, etc | 9 | 214 reports | 1,926
1731(c) | Request deferral of facility removal subject to RUE issued under 30 CFR 285 | 1 | 1 request | 1
Subtotal | 683 responses | 7,618
| $1,094,184 non-hour cost burdens.
Site Clearance for Wells, Platforms, and Other Facilities
1740; | Request approval to use alternative methods of well site, platform, or other facility clearance | 15 | 75 requests | 1,125
1743(b); 1704(f) | Verify permanently plugged well, platform, or other facility removal site cleared of obstructions; supporting documentation; and submit certification letter | 5 | 189 verifications | 945
Subtotal | 264 responses | 2,070
Pipeline Decommissioning
1750; 1751; 1752; 1754; 1704(d) | Submit application to decommission pipeline in place or remove pipeline (L/T or ROW) | 10 | 399 applications | 3,990
|  | $1,059 L/T decommission fee × 230 = $243,570.
|  | $2,012 ROW decommission fee × 169 = $340,028.
1753; 1704(e) | Submit post pipeline decommissioning report | 3 | 380 reports | 1,140
Subtotal | 779 responses | 5,130
| $583,598 non-hour cost burdens.
| 2,878 responses | 15,716
Total Burden | $1,677,782 Non-Hour Cost Burdens.
1 L/T = Lease Term.
2 ROW = Right of Way.

Estimated Reporting and Recordkeeping Non-Hour Cost Burden: There are three non-hour paperwork costs associated with this information collection. The estimated non-hour cost burden is $1,677,782. Sections 250.1751(a), 250.1752(a), and 250.1727 require respondents to pay a cost recovery fee when submitting a request to remove a platform or other facility, to decommission a lease term pipeline, or to decommission a ROW pipeline. The fees are required to recover the Federal Government's processing costs. We have not identified any other non-hour paperwork cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 22, 2010, we published a Federal Register notice (75 FR 13568) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We received one comment in response to the Federal Register notice and the comment was not germane to the collection of information.

If you wish to comment in response to this notice, you may send your comments to the offices listed under the ADDRESSES section of this notice. The OMB has up to 60 days to approve or disapprove the information collection but may respond after 30 days. Therefore, to ensure maximum consideration, OMB should receive public comments by October 7, 2010.

Public Comment Procedures: Before including your address, phone number, e-mail address, or other personal identifying information in your comment, you should be aware that your entire comment-including your personal identifying information-may be made publicly available at any time. While you can ask us in your comment to withhold your personal identifying information from public review, we cannot guarantee that we will be able to do so.

BOEMRE Information Collection Clearance Officer: Arlene Bajusz (202) 208-7744.

Dated: August 30, 2010.
Doug Slitor,
Acting Chief, Office of Offshore Regulatory Programs.

[FR Doc. 2010-22210 Filed 9-3-10; 8:45 am]

BILLING CODE 4310-MR-P